DEPARTMENT OF COMMERCE

International Trade Administration

[A-570-904]

Certain Activated Carbon From the People's Republic of China: Final Results of Antidumping Duty Administrative Review; 2022-2023

AGENCY: Enforcement and Compliance, International Trade Administration, Department of Commerce.

SUMMARY: The U.S. Department of Commerce (Commerce) determines that the mandatory respondents under review sold certain activated carbon (activated carbon) to the United States from the People's Republic of China (China) at prices below normal value during the period of review (POR), April 1, 2022, through March 31, 2023.

DATES: Applicable November 25, 2024.

FOR FURTHER INFORMATION CONTACT: Andrew Hart or Kathrine Smith, AD/CVD Operations, Office II, Enforcement and Compliance, International Trade Administration, U.S. Department of Commerce, 1401 Constitution Avenue NW, Washington, DC 20230; telephone: (202) 482-1058 or (202) 482-0557, respectively.

SUPPLEMENTARY INFORMATION:

Background

On May 2, 2024, Commerce published in the Preliminary Results and invited parties to comment.¹ The review covers two mandatory respondents Jilin Bright Future Chemicals Co., Ltd. (Jilin Bright), and Ningxia Guanghua Cherishmet Activated Carbon Co., Ltd. (GHC). We received case and rebuttal briefs from GHC, Jilin Bright, and Calgon Carbon Corporation and Norit Americas Inc. (collectively, the petitioners).²

¹ See Certain Activated Carbon from the People's Republic of China: Preliminary Results of Antidumping Duty Administrative Review; 2022-2023, 89 FR 35797 (May 2, 2024) (Preliminary Results), and accompanying Preliminary Decision Memorandum (PDM).

² See Petitioners' Letter, “Case Brief of Petitioners Concerning Jilin Bright,” dated June 12, 2024; see also Petitioners' Letter, “Case Brief of Petitioners Concerning GHC,” dated June 12, 2024; GHC's Letter, “Case Brief of Ningxia Guanghua Cherishmet Activated Carbon Co., Ltd.,” dated June 12, 2024; Jilin Bright's Letter, “Case Brief of Jilin Bright,” dated June 12, 2024; Petitioner's Letter, “Petitioners' Rebuttal Brief,” dated July 2, 2024; GHC's Letter, “Rebuttal Brief of Ningxia Guanghua Cherishmet Activated Carbon Co., Ltd.,” dated July 2, 2024; and Jilin Bright's Letter, “Rebuttal Case Brief of Jilin Bright,” dated July 2, 2024.

On July 22, 2024, Commerce tolled certain deadlines in this administrative proceeding by seven days.³ On August 21, 2024, Commerce extended the deadline for the final results until November 5, 2024.⁴ For a complete description of the events that occurred since the Preliminary Results, see the Issues and Decision Memorandum.⁵

³ See Memorandum, “Tolling of Deadlines for Antidumping and Countervailing Duty Proceedings,” dated July 22, 2024.

⁴ See Memorandum, “Extension of Deadline for Final Results of 2022-2023 Antidumping Duty Administrative Review,” dated August 21, 2024.

⁵ See Memorandum, “Issues and Decision Memorandum for the Final Results of the 2022-2023 Administrative Review of the Antidumping Duty Order on Certain Activated Carbon from the People's Republic of China,” dated concurrently with, and hereby adopted by, this notice (Issues and Decision Memorandum).

Scope of the Order ⁶

⁶ See Notice of Antidumping Duty Order: Certain Activated Carbon from the People's Republic of China, 72 FR 20988 (April 27, 2007) (Order).

The product subject to the Order is activated carbon from China. A full description of the scope of the Order is contained in the Issues and Decision Memorandum.

Analysis of Comments Received

All issues raised in briefs filed by parties in this administrative review are addressed in the Issues and Decision Memorandum and are listed in Appendix I to this notice. The Issues and Decision Memorandum is a public document and on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Separate Rate

Commerce determines that GHC and Jilin Bright, the two companies individually examined in this review, and 12 companies not individually examined are eligible to receive separate rates in this review.⁷

⁷ See Preliminary Results at “Separate Rates” section.

China-Wide Entity

Under Commerce's policy regarding the conditional review of the China-wide entity,⁸ the China-wide entity will not be under review unless a party specifically requests, or Commerce self-initiates, a review of the entity. Because no party requested a review of the China-wide entity in this review, and Commerce did not self-initiate a review of the entity, the entity is not under review, and the entity's rate (i.e., 2.42 U.S. dollars per kilogram (USD/kg)) is not subject to change.⁹ Commerce continues to consider certain companies for which a review was requested and which did not demonstrate separate rate eligibility, listed in Appendix II to this notice, to be part of the China-wide entity.¹⁰

⁸ See Antidumping Proceedings: Announcement of Change in Department Practice for Respondent Selection in Antidumping Duty Proceedings and Conditional Review of the Nonmarket Economy Entity in NME Antidumping Duty Proceedings, 78 FR 65963 (November 4, 2013).

⁹ See Order.

¹⁰ See appendix II for the list of companies that are subject to this administrative review that are considered to be part of the China-wide entity; see also Preliminary Results PDM at 13.

Changes Since the Preliminary Results

Based on our review of the record and comments received from interested parties on the Preliminary Results, and for the reasons explained in the Issues and Decision Memorandum, we made certain changes to the margin calculations for both GHC and Jilin Bright.¹¹

¹¹ See Issues and Decision Memorandum at Comments 1, 4, and 7.

Final Results of Review

For the companies subject to this review that established their eligibility for a separate rate, Commerce determines that the following estimated weighted-average dumping margins exist for the period April 1, 2022, through March 31, 2023:

Exporter | Weighted- average dumping margin (USD/kg) ¹²
Jilin Bright Future Chemicals Co., Ltd | 1.95
Ningxia Guanghua Cherishmet Activated Carbon Co., Ltd | 1.21
Review-Specific Rate Applicable for Non-Selected Companies Under Review ¹³ | 1.44

Disclosure

¹² In the second administrative review of the Order, Commerce determined that it would calculate per-unit weighted-average dumping margins and assessment amounts for all future reviews. See Certain Activated Carbon from the People's Republic of China: Final Results and Partial Rescission of Second Antidumping Duty Administrative Review, 75 FR 70208, 70211 (November 17, 2010).

¹³ See appendix II.

Commerce intends to disclose the calculations performed in connection with these final results of review to interested parties within five days after public announcement or, if there is no public announcement, within five days of the date of publication of the notice of final results in the Federal Register, in accordance with 19 CFR 351.224(b).

Assessment Rates

Pursuant to section 751(a)(2)(A) of the Act, and 19 CFR 351.212(b)(1), Commerce shall determine, and U.S. Customs and Border Protection (CBP) shall assess, antidumping duties on all appropriate entries of subject merchandise in accordance with the final results of this review.

For the GHC and Jilin Bright, Commerce will calculate importer-specific assessment rates for antidumping duties, in accordance with 19 CFR 351.212(b)(1).

For entries that were not reported in the U.S. sales database submitted by the exporter individually examined during this review, Commerce will instruct CBP to liquidate such entries at the China-wide rate.¹⁴

¹⁴ For a full discussion of this practice, see Non-Market Economy Antidumping Proceedings: Assessment of Antidumping Duties, 76 FR 65694 (October 24, 2011).

For the respondents that were not selected for individual examination in this administrative review but qualified for a separate rate, the per unit assessment rate will be the rate established for these companies in these final results of review.

For the six companies identified in appendix II to this notice as part of the China-wide entity, we will instruct CBP to apply the China-wide per-unit assessment rate to all entries of subject merchandise made during the POR which were exported by those companies.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for shipments of the subject merchandise from China entered, or withdrawn from warehouse, for consumption on or after the publication date, as provided by section 751(a)(2)(C) of the Act: (1) for the subject merchandise exported by the companies listed above or in appendix II that have a separate rate, the cash deposit rate will be equal to the weighted-average dumping margin established in the final results of this administrative review; (2) for previously investigated or reviewed Chinese and non-Chinese exporters not listed above or in appendix II that received a separate rate in a prior segment of this proceeding, the cash deposit rate will continue to be the existing exporter-specific rate published for the most recently completed segment of this proceeding; (3) for all Chinese exporters of subject merchandise that have not been found to be entitled to a separate rate, the cash deposit rate will be the rate for the China-wide entity (i.e., 2.42 USD/kg); and (4) for all non-Chinese exporters of subject merchandise that have not received their own separate rate, the cash deposit rate will be the rate applicable to the Chinese exporter that supplied that non-Chinese exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties has occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation subject to sanction.

Notification to Interested Parties

We are issuing and publishing these final results of administrative review in accordance with sections 751(a)(1) and 777(i)(1) of the Act, and 19 CFR 351.221(b)(5) and 351.213(h)(2).

Dated: November 5, 2024.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: Calculation Errors

Comment 2: Surrogate Country (SC) Selection and Factors of Production (FOP)

Comment 3: Surrogate Values (SVs)

Comment 4: Financial Ratio

Comment 5: Value-Added Tax (VAT)

Comment 6: Russian SV Data

Comment 7: Carbonized Screenings and By-Product FOP

Comment 8: GHC's Separate Rate

Comment 9: GHC's FOP Database

VI. Recommendation

Appendix II

Review-Specific Rate Applicable for Non-Selected Companies Under Review

1. Bengbu Modern Environmental Co., Ltd.

2. Carbon Activated Tianjin Co., Ltd.

3. Datong Hongdi Carbon Co., Ltd.

4. Datong Juqiang Activated Carbon Co., Ltd.

5. Datong Municipal Yunguang Activated Carbon Co., Ltd.

6. Jacobi Carbons AB; Jacobi Carbons Industry (Tianjin) Co., Ltd.; Tianjin Jacobi International Trading Co. Ltd.; Jacobi Adsorbent Materials

7. Ningxia Huahui Environmental Technology Co., Ltd.

8. Ningxia Mineral & Chemical Limited

9. Shanxi Industry Technology Trading Co., Ltd.

10. Shanxi Sincere Industrial Co., Ltd.

11. Tancarb Activated Carbon Co., Ltd.

12. Tianjin Channel Filters Co., Ltd.

Companies Considered To Be Part of the China-Wide Entity

1. Beijing Pacific Activated Carbon Products Co., Ltd.

2. Shanxi Dapu International Trade Co., Ltd.

3. Shanxi DMD Corp.

4. Shanxi Tianxi Purification Filter Co., Ltd.

5. Sinoacarbon International Trading Co., Ltd.

6. Tianjin Maijin Industries Co., Ltd.

[FR Doc. 2024-27580 Filed 11-22-24; 8:45 am]

BILLING CODE 3510-DS-P